DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held April 30-May 1, 2003, at the Wyndham Milwaukee Center Hotel, 129 East Kilbourn Avenue, Milwaukee, WI. The meeting will begin at 8 a.m. and conclude at 4:30 p.m. on both days. The meeting is open to the public.

The purpose of the Committee is to advise the Secretary of Veterans Affairs on the administration of national cemeteries, soldiers' lots and plots, and the selection of new national cemetery sites, the erection of appropriate memorials, and the adequacy of Federal burial benefits. The Committee will make recommendations the Secretary regarding these activities.

On April 30, the Committee will discuss issues relating to Wood National Cemetery, the Southern Wisconsin State Veterans Cemetery and the State Cemetery Grants Program. In the afternoon, the Committee will tour Wood National Cemetery and the Southern Wisconsin State Veterans Cemetery. On May 1, the Committee will receive updates on National Cemetery Administration's Operational Standards and Measures, construction of new national cemeteries, legislative initiatives, meeting veterans' burial needs, and other issues related to the administration and maintenance of national cemeteries. The Committee will conclude with discussions of any unfinished business, make recommendations for future programs, meeting sites, and agenda topics.

No time will be allocated for receiving for oral presentations from the public. Any member of the public wishing to attend the meeting is requested to contact Ms. Paige Lowther, Designated Federal Officer, at (202) 273-5164. The Committee will accept written comments. Comments can be transmitted electronically to the Committee at paige.lowther@mail.va.gov or mailed to National Cemetery Administration (40), 810 Vermont Avenue, NW., Washington, DC 20420. In their Communications with the Committee, the writer must identify themselves and state the organizations, associations, or person(s) they represent.

Dated: March 26, 2003.
By Direction of the Secretary.
E. Philip Riggin,
Committee Management Officer.

[FR Doc. 03-8158 Filed 4-2-03; 8:45 am]

BILLING CODE 8320-01-M